ENVIRONMENTAL PROTECTION AGENCY

[EPA-HQ-RCRA-2011-0178; FRL-9446-9]

EPA Seeking Input Materials Measurement; Municipal Solid Waste (MSW), Recycling, and Source Reduction Measurement in the U.S.

AGENCY: Environmental Protection Agency (EPA).

ACTION: Notice.

SUMMARY: EPA is soliciting stakeholder input regarding the efficacy and scope of the MSW Characterization Report called “Municipal Solid Waste in the United States” as part of a broader discussion about sustainable materials management. This information will be used to develop new measurement definitions and protocols for measurement of these materials, as well as the possible addition of construction and demolition (C&D) materials and non-hazardous industrial materials to the list of materials addressed in future efforts. This effort could lead to the creation of a new measurement report that the U.S. Environmental Protection Agency (EPA or the Agency) will make publicly available.

DATES: All written comments must be received on or before August 31, 2011.

ADDRESSES: Submit your comments, identified by Docket ID No. EPA-HQ-RCRA-2011-0178 by one of the following methods:

• http://www.regulations.gov. Follow the online instructions for submitting comments using the Docket ID No. EPA-HQ-RCRA-2011-0178.

• E-mail: rcra-docket@epa.gov.

• Fax: 202-566-9744.

• Mail: RCRA Docket (28221T), Environmental Protection Agency, 1200 Pennsylvania Ave., NW., Washington, DC 20460-0001.

• Hand Delivery: EPA West Building Room 3334, 1301 Constitution Avenue, NW., Washington, DC 20460. Such deliveries are only accepted during the Docket's normal hours of operation (8:30 a.m. to 4:30 p.m., Monday through Friday, excluding legal holidays) and special arrangements should be made for deliveries of boxed information.

Instructions: Direct your comments to Docket ID No. EPA-HQ-RCRA-2011-0178. EPA's policy is that all comments received will be included in the docket without change and may be made available on-line at http://www.regulations.gov, including any personal information provided, unless the comment includes information claimed to be Confidential Business Information (CBI) or other information whose disclosure is restricted by statute. The http://www.regulations.gov Web site is an “anonymous access” system, which means EPA will not know your identity or contact information unless you provide it in the body of your comment. If you send an e-mail comment directly to EPA without going through http://www.regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/dockets/.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC 20460. The Public Reading Room is open from 8:30 a.m. to 4:30 p.m., Monday through Friday, excluding legal holidays. The telephone number for the Public Reading Room is (202) 566-1744, and the telephone number for the RCRA Docket is (202) 566-0270.

FOR FURTHER INFORMATION CONTACT: Hope Pillsbury, Mail Code (5306P), Office of Resource Conservation and Recovery, Environmental Protection Agency, 1200 Pennsylvania Ave., NW., Washington, DC 20460-0001; telephone number: (703) 308-7258; pillsbury.hope@epa.gov.

SUPPLEMENTARY INFORMATION:

Background

For decades, EPA has been providing information on the recycling, reuse and generation of municipal solid waste (MSW) in its regularly published MSW Characterization Report called “Municipal Solid Waste in the United States.” Our trash or MSW is made up of the things we commonly use and then throw away. These materials include items, such as packaging, food scraps, grass clippings, sofas, computers, and refrigerators. EPA has used this report to provide a consistent view of MSW in the US over time and for internal performance measures, deliberations and programmatic assessments; however questions are being raised about its scope, the data sources used, the assumptions made, as well as its transparency. There is also a growing need for a more holistic assessment of how materials are generated, used and managed in the U.S. economy.

While the structure, content and methodology of the MSW Characterization Report has remained essentially unchanged, the manner in which the report is used has changed dramatically, and it is now used as the basis for decisions that were unanticipated when the report was first conceived. Many believe that the data and conclusions provided in the MSW Characterization Report do not adequately support this expanded scope of use.

EPA is interested in obtaining stakeholder input regarding the Agency's methods of measuring materials in the following waste streams: MSW (which can include items, such as packaging, food scraps, grass clippings, sofas, computers, and refrigerators), construction and demolition (C&D) materials, and non-hazardous industrial materials (such as iron and steel slags, spent foundry sands, and pulp and paper residues); and the sustainable management of these materials through safe recycling and source reduction. The Agency will consider the information gathered from this notice and other sources as it works to create a new national measurement approach and report. Our goal is to produce a measurement approach and resulting report that provides appropriate data to support a broad array of uses, including recycling, source reduction and waste prevention, and disposal.

EPA's MSW Characterization Report, “Municipal Solid Waste in the United States,” analyzes, among other things, the amounts of MSW recycled, incinerated and landfilled. This document can be found at: http://www.epa.gov/epawaste/nonhaz/municipal/msw99.htm. This report has been based on a materials flow approach, which is a top-down approach to measurement. It characterizes the MSW stream of the nation as a whole. The report is the result of modeling that uses data gathered from a wide variety of public and private sources, such as the Department of Commerce, the U.S. Census Bureau, and trade associations. This method, however, has limitations, including the fairly narrow scope of materials it covers and inherent limitations due to a modeling approach. For example, at present, it does not include other types of non-hazardous waste, such as C&D materials, industrial materials and automotive waste.

Other measurement efforts in the solid waste area that EPA has undertaken involved electronics and C&D materials. The electronics study (with a more detailed assessment of used and end of life of electronics) called “Electronics Waste Management in the United States: Approach One,” can be found at: http://www.epa.gov/osw/conserve/materials/ecycling/manage.htm. EPA conducted two C&D studies. The most recent study was “Building-Related Construction and Demolition Materials Amounts,” to determine the amount of building-related C&D materials generated and recovered in the U.S. during 2003. That study can be found at http://www.epa.gov/osw/conserve/rrr/imr/cdm/pubs/cd-meas.pdf.

EPA also issued a report in 1997 that established voluntary recycling measurement standards with an extensive list of definitions. It can be found at: http://www.epa.gov/osw/conserve/tools/recmeas/.

Furthermore, State and local communities have also developed ways of measuring their recycling rates based on a somewhat different scope of materials included, and occasionally, different definitions of recycling so that they could meet their own legislatively mandated recycling or diversion goals. As the Agency considers a broader and more comprehensive view of sustainable materials management, EPA seeks input on how these other non-hazardous wastes and materials should be measured and characterized, as well as input on what definitions should be used.

The Agency is considering various approaches to data gathering and reporting and seeks stakeholder input on the following topics:

Topic 1: Usage of EPA's Characterization Report

If you use EPA's MSW Characterization Report:

• How do you use it?

• What decisions or actions have you taken or plan to take based upon this report?

• What do you like and dislike?

• How would you improve it?

• Recognizing that data gathering is crucial to any characterization report, do you have suggestions, based on experience with similar data gathering efforts, on what has worked, and what has not, in those efforts?

Topic 2: Scope of EPA's MSW Characterization Report

The current MSW Characterization Report shows what products and materials are commonly collected and disposed of by households. Examples of this include paper, glass, metal, plastic, textiles and wood plus organics (food, leaves and grass). All these materials are generated by residential and commercial sectors and are presently recycled, reused, combusted or landfilled. In considering the scope of the report and possible improvements, please consider the following questions:

• What materials should be included in the report (in particular, should it include other types of non-hazardous waste, such as C&D materials, industrial materials, and/or automotive waste)?

• What are the most useful sources of data?

• Who should provide this data?

• Consistent terminology is crucial for successful measurement and reporting. Thus, please list primary materials terms used in your field. For purposes of measuring, what terms are most important, and how would you define them? Examples of terms to be considered include: Reuse; source reduction; recycling; pre-consumer recycling; post-consumer recycling; disposal; biomass; organics; municipal solid waste; industrial (nonhazardous) solid waste; recycled material terms (e.g., iron and steel scrap, other metals, paper fiber) sustainability; C&D materials; and zero waste.

Topic 3: Measurement Methodology

In making assessments on the methods to be used for measurement, please provide your insights to the following questions.

• What types of data gathering and analyses are likely to be most accurate and lead to clearly understandable results?

• Are the voluntary recycling standards and definitions EPA established in 1997 applicable or useful today? Please explain why or why not.

• If an open source, transparent Web-based data collection and measurement tool could be created, would you use it? How practical and economical would such a system be?

• In determining the measurement of materials throughout their entire life cycle from resource extraction; material processing; product design and manufacturing; product use; collection and processing; to disposal:

○ What data collection would be needed?

○ What kind of measurement methodology and tools are necessary?

○ What reporting framework would support your programmatic efforts?

List of Subjects

Environmental protection, municipal solid waste (MSW) characterization, MSW management, recycling, measurement, data, data collection, construction and demolition (C&D) recycling, source reduction, life cycle, life cycle systems approach, sustainable materials management.

Dated: July 27, 2011.
Suzanne Rudzinski,
Director, Office of Resource Conservation and Recovery, Office of Solid Waste and Emergency Response.

[FR Doc. 2011-19515 Filed 8-1-11; 8:45 am]

BILLING CODE 6560-50-P